FEDERAL COMMUNICATIONS COMMISSION

47 CFR Part 73

[DA 01-2488; MM Docket No.01-187; RM-10174]

Radio Broadcasting Services; Sabinal, TX

AGENCY: Federal Communications Commission.

ACTION: Final rule.

SUMMARY: This document allots Channel 296A to Sabinal, Texas, in response to a petition filed by Katherine Pyeatt. See 66 FR 44587, August 24, 2001. The coordinates for Channel 296A at Sabinal are 29-20-17 NL and 99-29-00 WL. There is a site restriction 2.9 kilometers (1.8 miles) northwest of the community. With this action, this proceeding is terminated. A filing window for Channel 296A at Sabinal will not be opened at this time. Instead, the issue of opening this allotment for auction will be addressed by the Commission in a subsequent order.

DATES: Effective December 10, 2001.

FOR FURTHER INFORMATION CONTACT: Kathleen Scheuerle, Mass Media Bureau, (202) 418-2180.

SUPPLEMENTARY INFORMATION: This is a summary of the Commission's Report and Order, MM Docket No. 01-187, adopted October 17, 2001, and released October 26, 2001. The full text of this Commission decision is available for inspection and copying during regular business hours in the Commission's Reference Information Center, Portals II, 445 12th Street, SW, Room CY-A257, Washington, DC 20554. The complete text of this decision may also be purchased from the Commission's duplicating contractor, Qualex International, Portals II, 445 12th Street, SW, Room CY-B402, Washington, DC, 20554, (202) 863-2893, facsimile (202) 863-2898, or via e-mail qualexint@aol.com.

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Texas, is amended by adding Sabinal, Channel 296A.

Federal Communications Commission.
John A. Karousos,
Chief, Allocations Branch, Policy and Rules Division, Mass Media Bureau.

[FR Doc. 01-28207 Filed 11-8-01; 8:45 am]

BILLING CODE 6712-01-P